ENVIRONMENTAL PROTECTION AGENCY

[ER-FRL-9008-6]

Environmental Impacts Statements; Notice of Availability

Responsible Agency: Office of Federal Activities, General Information (202) 564-7146 or http://www.epa.gov/compliance/nepa/.

Weekly receipt of Environmental Impact Statements

Filed 04/01/2013 Through 04/05/2013

Pursuant to 40 CFR 1506.9.

Notice

Section 309(a) of the Clean Air Act requires that EPA make public its comments on EISs issued by other Federal agencies. EPA's comment letters on EISs are available at: http://www.epa.gov/compliance/nepa/eisdata.html.

EIS No. 20130086, Revised Final EIS, USFS, ID,Lower Orogrande, North Fork Ranger District, Clearwater National Forest, Review Period Ends: 05/28/2013, Contact: George Harbaugh 208-935-4260.

EIS No. 20130087, Draft EIS, BLM, NM,TriCounty Resource Management Plan, Comment Period Ends: 07/11/2013, Contact: Jennifer Montoya 575-525-4316.

EIS No. 20130088, Final Supplement, BOEM, 00,Gulf of Mexico OCS Oil and Gas Lease Sales: 2013-2014 Western Planning Area Lease Sale 233 Central Planning Area Lease Sale 231, Review Period Ends: 05/13/2013, Contact: Poojan B. Tripathi 703-787-1738.

Amended Notices

EIS No. 20130041, Draft EIS, USFS, AZ,Salt River Allotments Vegetative Management, Comment Period Ends: 05/08/2013, Contact: Debbie Cress 928-467-3220, Revision to FR Notice Published 02/22/2013; Extending Comment Period from 04/08/2013 to 05/08/2013.

EIS No. 20130047, Draft EIS, NPS, FL,Everglades National Park Draft General Management Plan/East Everglades Wilderness Study, Comment Period Ends: 05/13/2013, Contact: Eric Thuerk 303-987-6852, Revision to FR Notice Published 03/01/2013; Extending Comment Period from 4/15/2013 to 5/13/2013.

Dated: April 9, 2013.
Cliff Rader,
Director, NEPA Compliance Division, Office of Federal Activities.

[FR Doc. 2013-08661 Filed 4-11-13; 8:45 am]

BILLING CODE 6560-50-P